DEPARTMENT OF TRANSPORTATION

[Docket No. PHMSA-2021-0054]

Pipeline Safety: Information Collection Activities

AGENCY: Pipeline and Hazardous Materials Safety Administration (PHMSA), DOT.

ACTION: Notice and request for comments.

SUMMARY: In compliance with the Paperwork Reduction Act of 1995, this notice announces that the information collection requests abstracted below are being forwarded to the Office of Management and Budget (OMB) for review and comment. A Federal Register notice with a 60-day comment period soliciting comments on the information collection was published on March 11, 2022.

DATES: Interested persons are invited to submit comments on or before November 30, 2022.

ADDRESSES: The public is invited to submit comments regarding this information collection request, including suggestions for reducing the burden, to the Office of Management and Budget, Attention: Desk Officer for the Office of the Secretary of Transportation, 725 17th Street NW, Washington, DC 20503. Comments can also be submitted electronically at www.reginfo.gov/public/do/PRAMain.

FURTHER INFORMATION CONTACT: Angela Hill by telephone at 202-680-2034, by email at angela.hill@dot.gov.

SUPPLEMENTARY INFORMATION:

I. Background

Title 5, Code of Regulations (CFR) section 1320.8(d), requires PHMSA to provide interested members of the public and affected agencies the opportunity to comment on information collection and recordkeeping requests before they are submitted to OMB for approval. In accordance with this regulation, on March 11, 2022, PHMSA published a Federal Register notice (87 FR 14092) with a 60-day comment period soliciting comments on its plan to request revisions to the following forms: Form PHMSA F 7000-1, “Accident Report—Hazardous Liquid and Carbon Dioxide Pipeline Systems,” under Office of Management and Budget (OMB) Control No. 2137-0047; Form PHMSA F 7100.2-1, “Annual Report for Natural and Other Gas Transmission and Gathering Pipeline Systems,” under OMB Control No. 2137-0522; Form PHMSA F 7000-1.1, “Annual Report for Hazardous Liquid and Carbon Dioxide Pipeline Systems,” under OMB Control No. 2137-0614; Form PHMSA F 7100.1-1, “Annual Report for Gas Distribution Systems,” under OMB Control No. 2137-0629; and Forms PHMSA F 7100.1, “Incident Report—Gas Distribution Systems,” PHMSA F 7100.2, “Incident Report—Gas Transmission and Gathering Systems,” and PHMSA F 7100.3, “Incident Report—Liquefied Natural Gas (LNG) Facilities,” each under OMB Control No. 2137-0635.

PHMSA proposed to revise the annual reports to collect data on excavation damage events to align with the Common Ground Alliance's (CGA's) Damage Information Reporting Tool (DIRT) root causes. PHMSA proposed to revise its incident and accident reports, to update the excavation damage questions to match the 2018 version of DIRT and collect state one-call law exemption data when any sub-cause is selected under excavation damage. In the hazardous liquid accident report, PHMSA proposed requiring the collection of tank data in Parts C3u and C3v for all reports where A14, “Part of system involved in the Accident,” is “Onshore Breakout Tank or Storage Vessel.” In all three gas incident reports, PHMSA proposed adding the local time and date of “confirmed discovery” to better assess operator compliance with PHMSA's reporting regulations. Finally, PHMSA proposed removing Part E of the gas distribution annual report pertaining to the number of excess flow valves (EFVs) and manual service line shut-off valves installed or in the system.

During the 60-day comment period, PHMSA received comments from Sander Resources, the GPA Midstream Association (GPA Midstream), the Interstate Natural Gas Association of America (INGAA), and a joint comment from the American Petroleum Institute and the Association of Oil Pipe Lines (API/AOPL). The comments, organized by topic area, are summarized and addressed below.

II. Response to Public Comments

A. Common Ground Alliance Damage Information Reporting Tool

Sander Resources opines that aligning PHMSA data with the CGA DIRT Report does not increase pipeline safety and does little to improve the quality or completeness of the data currently being collected by CGA. Sander Resources believes the noticed information collection will result in increased cost and greater administrative burden with no benefit to operators, regulators, or other stakeholders within the damage prevention space. Also, Sander Resources opines there is a greater burden on operators since states require different reporting information on excavation damage. Sanders Resources states this comes at a time where many operators are already under pressure due to the new and pending regulatory changes.

PHMSA's proposed revisions for the three annual report forms is limited to collecting the total number of one-call tickets and the total number of excavation damage events in each of 26 CGA DIRT root cause categories on an annual basis. The current gas distribution annual report includes only four root cause categories, and the other annual reports currently do not collect data regarding excavation damage. PHMSA recognizes an increased burden on operators for all three annual reports to provide the expanded root cause data. While the collection of data does not immediately impact pipeline safety, reporting events under the 26 root cause categories allows PHMSA and stakeholders, including operators, to better understand how or why excavation damage events have occurred, and thus identify potential gaps in damage prevention programs. Over the past twenty years, the leading cause of incidents and accidents resulting in fatality or injury has been excavation damage. Having 26 root cause values could allow stakeholders to identify more specific corrective measures than could be identified with only four root causes. A better understanding of gaps and the implementation of corrective measures could reduce the number of incidents and accidents caused by excavation damage.¹ Finally, states may implement different reporting requirements to support unique state processes such as excavation damage enforcement. Regardless of the government agency collecting data, the operator only needs to determine the root cause once and reporting which category the cause falls under is a minimal additional burden.

¹ PHMSA provides the currently collected excavation damage data on its website at https://portal.phmsa.dot.gov/PDMPublicReport/?url=https://portal.phmsa.dot.gov/analytics/saw.dll?Portalpages&PortalPath=%2Fshared%2FPDM%20Public%20website%2F_portal%2FExcavation%20Damage.

Sander Resources also claims that the 26 new damage root cause categories are overwhelmingly excavator-focused and excavators will be found responsible for inaccurately high numbers of events reported.

PHMSA notes that 11 of the 26 root cause categories are excavator-focused. The categories are designed to capture most of the causes of excavation damage and are based on years of CGA experience in evaluating the causes of excavation damage events. Again, the additional categories are intended to better understand potential gaps in pipeline damage prevention programs.

Sander Resources also expresses concern that the new data collection may result in duplicate reporting, that PHMSA has not clarified whether the data will be “normalized,” and that reporting to PHMSA eliminates the anonymity inherent in DIRT.

Although Sander Resources stated their comments applied to the annual report, PHMSA suspects that this comment is intended for the incident and accident reports. On the incident and accident reports, operators can indicate whether they want PHMSA to submit the data to CGA DIRT. Within CGA DIRT, processes are currently in place to minimize duplicate reporting. If more than one stakeholder reports a damage event to DIRT, the data is “normalized” to provide the most accurate record for the event. PHMSA collects excavation damage data only from the operator and makes no changes to the data. The incident and accident report changes proposed by PHMSA have no impact on the potential for duplicate reporting in DIRT. Further, since CGA DIRT is voluntary, a degree of anonymity is maintained. However, PHMSA has never collected incident and accident reports anonymously. Visibility of each operator's data is essential for PHMSA and stakeholders to better understand gaps in pipeline damage prevention programs.

Sander Resources states that PHMSA only requires excavation damage data when the reporting thresholds for incidents or accidents are met and suggests that PHMSA adjust the reporting threshold downward significantly. They also suggest that PHMSA capture information on first- and second-party damage in addition to third party damage.

PHMSA is proposing the collection of the number of excavation damage events in each of 26 root causes on the annual reports. Most of the excavation damage events included in the annual reports would not be associated with reportable incidents or accidents so collection of the data on annual reports is a more streamlined approach to collecting this information. Regarding the party causing the damage, neither CGA DIRT nor PHMSA's annual, incident, and accident reports, limit the data collection to damage events caused by a third party.

B. Time/Date Incident Reporting Criteria Met

GPA Midstream recommends that PHMSA clarify that property damage amounts in section A4 on the incident and accident report forms are estimates only. If PHMSA chooses to retain section A4 and add time/date of confirmed discovery to section A19, INGAA recommends that PHMSA acknowledge that property damage amounts in section A4 are often estimated. GPA Midstream and INGAA also recommend that PHMSA remove A4 from the Gas Transmission and Gathering Incident Report since PHMSA is proposing to add time/date of confirmed discovery to section A19 of those reports, and the commenters believe the inputs are duplicative.

PHMSA understands that property damage values are typically estimates. PHMSA has traditionally used section A4 of the incident and accident report forms to collect the time/date of the incident or accident. The report text and instructions have been changed over the past ten years in response to the wide variety of incident and accident timelines. PHMSA's proposed changes to the instructions for A4 were made in response to apparent confusion on the part of operators and other stakeholders who believed that the A4 value should be the time/date when the operator first finishes estimating property damage or the time/date when an injured person is admitted to the hospital. In A4, PHMSA intends to collect the time/date that consequences began occurring. In response to the comments, PHMSA proposes to make it clear in the instructions that it expects the operator to report the time/date the incident/accident occurred or began, not the time/date the property damage estimates were generated by the operator (i.e., not the time/date the operator believed the criteria were met). PHMSA will also change the name of A4 in the incident and accident reports from “Earliest local time and date an incident (accident) reporting criteria was met” to “Incident (Accident) local time and date.” In the instructions, PHMSA maintains the underlying proposal to report the time/date that consequences began occurring.

As discussed above, PHMSA proposes maintaining A4 to collect the earliest time/date that consequences began occurring. In 49 CFR 191.3, confirmed discovery means “when it can be reasonably determined, based on information available to the operator at the time a reportable event has occurred, even if only based on a preliminary evaluation.” The regulatory requirement associated with confirmed discovery is in section 191.5, which requires notice to the National Response Center at the earliest practicable moment following discovery, but no later than one hour after confirmed discovery. Confirmed discovery is related to the time required for the operator to conduct a preliminary evaluation after the operator became aware that consequences were occurring. In many instances, the actual time/date of the event reported in A4 and confirmed discovery reported in A19 will be very close together. In other cases, there may be significant time between the first occurrence of consequences (reported in A4) and confirmed discovery by the operator (reported in A19). Both of these time/date values are important and provide PHMSA and stakeholders with an indication of the time required for the operator to become aware of consequences and conduct its preliminary evaluation.

C. Accident Report Breakout Tank Data

API/AOPL do not believe that revising Part C of the Hazardous Liquid and Carbon Dioxide Accident Report for the scenario of a tank weld failure will improve data quality and recommend that PHMSA clarify specifically how tank releases should be reported as operators have multiple options at the time.

In response to this comment, PHMSA has made several changes to its original proposal, including amendments to the following data fields on the form: ITEM_INVOLVED (C3), TANK_VESSEL_SUBTYPE (C3u), and CAUSE of “Material Failure of Pipe or Weld” (G5). For C3, PHMSA proposes a default, unalterable value of “Tank/Vessel” in C3 when SYSTEM_PART_INVOLVED (A14) is “Onshore Breakout Tank or Storage Vessel, Including Attached Appurtenances.” These changes will eliminate multiple options for reporting tank releases. PHMSA also proposes to modify the instructions for C3u and add additional options. The proposed instructions are to report the failure path in C3u. Based on text submitted by operators when “Other” is selected in C3 or C3u, PHMSA proposes adding “Vent” and “Manway” as additional C3u failure path options. Currently, the G5 CAUSE is selectable only when C3 is “Pipe” or “Weld.” Since PHMSA is proposing to allow only “Tank/Vessel” in C3 for tank releases and tanks have welds, we also propose allowing the selection of the G5 CAUSE when C3 is “Tank/Vessel.” With these changes, stakeholders would have a clear picture of tank releases through a combination of the failure path in C3u and the cause of the accident. For example, the failure of a weld in a tank shell would be reported with “Tank Shell” in C3u and a “Material Failure of Pipe or Weld” in G5.

Further, PHMSA will continue improving the clarity of existing accident reports. For example, for some tank failures, operators have entered “Other” for C3 when they should have selected “Tank/Vessel” in C3 and “Mixer” in C3u. PHMSA plans to ask operators to replace “Other” selections with specific data, which will improve the quality and clarity of accident reports. PHMSA is committed to continually improving the clarity of the reports to collect the best data possible and appreciates the API/AOPL comments supporting these efforts.

III. Summary of Impacted Collections

This notice announces that PHMSA will submit the information collection revision requests abstracted below to OMB for approval. The following information is provided for these information collections: (1) Title of the information collection; (2) OMB control number; (3) Current expiration date; (4) Type of request; (5) Abstract of the information collection activity; (6) Description of affected public; (7) Estimate of total annual reporting and recordkeeping burden; and (8) Frequency of collection.

PHMSA will request a 3-year term of approval for these information collections. PHMSA requests comments on the following information:

1. Title: Transportation of Hazardous Liquids by Pipeline: Record Keeping and Accident Reporting.

OMB Control Number: 2137-0047.

Current Expiration Date: 3/31/2024.

Type of Request: Revision.

Abstract: This mandatory information collection covers the recordkeeping requirements and the collection of accident data from operators of hazardous liquid and carbon dioxide pipelines. Part 195 requires hazardous liquid operators to file an accident report as soon as practicable, but not later than 30 days after discovery of the accident on form, “PHMSA F 7000-1” whenever there is a reportable accident. With respect to accidents caused by excavation damage to a pipeline, PHMSA is revising this information collection to require state law exemption data when any sub-cause is selected within the excavation damage causes. PHMSA believes that the current time estimated for this information collection provides sufficient time for affected operators to include the newly required information. PHMSA does not expect operators to incur additional burden due to this revision.

Affected Public: Operators of hazardous liquid and carbon dioxide pipeline facilities.

Annual Reporting and Recordkeeping Burden:

Estimated number of responses: 1,644.

Estimated annual burden hours: 53,504.

Frequency of Collection: On occasion.

2. Title: Annual and Incident Reports for Gas Pipeline Operators.

OMB Control Number: 2137-0522.

Current Expiration Date: 5/31/2024.

Type of Request: Revision.

Abstract: This mandatory information collection covers the requirements for operators of natural gas pipelines, underground natural gas storage facilities, and liquefied natural gas facilities to submit annual and incident reports to PHMSA. Currently, PHMSA receives an estimated 2,247 reports from operators in compliance with these requirements resulting in an overall time burden of 71,801 hours annually.

Section 191.17 requires operators of underground natural gas storage facilities, gas transmission systems, and gas gathering systems to submit an annual report by March 15, for the preceding calendar year. The revision to this information collection includes changes to the “Annual Report for Natural and Other Gas Transmission and Gathering Pipeline Systems” to collect data on excavation damages. Each year, gas transmission operators submit an estimated 1,440 annual reports to PHMSA. The current estimated burden for each annual report is 47 hours for an overall reporting burden of 67,680 hours [47 hours × 1,440 reports]. Because gas transmission operators are new to collecting and submitting data on excavation damage, PHMSA estimates that it will take the estimated 1,440 respondents a one-time effort of 18 hours, per operator, to update their systems to accommodate the new data request. This will result in gas transmission and gathering operators incurring a one-time burden of 25,920 hours [18 hours × 1,440 reports]. In addition, PHMSA expects that it will take gas transmission operators an additional hour, annually, to include the newly requested excavation damage data in their annual report submission. Therefore, over the course of the three-year approval for the information collection, the average time increase to the gas transmission annual report burden will be 7 hours [(18 hours + 3 hours)/3] each year—resulting in the annual time burden to increase from 47 hours to 54 hours per report. This will result in an overall burden increase of 10,080 hours [7 hours × 1,440 reports] due to this revision. The total annual burden for submitting the gas transmission annual report will be 77,760 hours [54 hours × 1,440 reports]. Based on the annual burden increase of 10,080 hours for the gas transmission annual reports, the estimated annual burden for this entire information collection, including the annual report burden for liquefied natural gas and underground natural gas storage operators, and the immediate notice of incidents for all of these operators, will increase from 71,801 hours to 81,881 hours [71,801 hours + 10,080].

Affected Public: Operators of natural gas transmission pipelines, underground natural gas storage facilities, and liquefied natural gas facilities.

Annual Reporting and Recordkeeping Burden:

Estimated number of responses: 2,247.

Estimated annual burden hours: 81,881.

Frequency of collection: Annually and on occasion.

3. Title: Hazardous Liquid Pipeline Operator Annual Report.

OMB Control Number: 2137-0614.

Current Expiration Date: 1/31/2023.

Type of Request: Revision.

Abstract: This mandatory information collection covers the collection of annual report data from operators of hazardous liquid and carbon dioxide pipelines. Part 195 requires these pipeline operators to submit reports each year. This revision includes collecting excavation damage data and changes to the report form to improve consistency. Each year, hazardous liquid operators submit an estimated 475 annual reports to PHMSA. The current estimated burden for operators to submit each report is 19 hours for an overall annual reporting burden of 9,025 hours [19 hours × 475 reports]. Because hazardous liquid operators are new to collecting and submitting data on excavation damage, PHMSA estimates that it will take each of these 475 respondents a one-time effort of 18 hours, per operator, to update their systems to accommodate the new data request. This will result in a one-time burden of 8,550 hours [475 responses × 18 hours]. PHMSA expects that it will take hazardous liquid operators an additional hour, annually, to include the newly requested excavation damage data in their annual report submission. Therefore, over the course of the three-year approval for the information collection, the average increase to the annual report burden will be 7 hours [(18 hours + 3 hours)/3]. As a result, the annual reporting burden will increase from 19 hours to 26 hours per report. This will result in an estimated annual reporting burden of 12,350 hours [475 reports × 26 hours].

Affected Public: Operators of hazardous liquid and carbon dioxide pipeline facilities.

Annual Reporting and Recordkeeping Burden:

Estimated number of responses: 475.

Estimated annual burden hours:12,350.

Frequency of Collection: Annually.

4. Title: Annual Report for Gas Distribution Operators.

OMB Control Number: 2137-0629.

Current Expiration Date: 5/31/2024.

Type of Request: Revision.

Abstract: This mandatory information collection covers the collection of data from operators of gas distribution pipeline systems for annual reports. Section 191.17 requires operators of gas distribution systems to submit an annual report by March 15, for the preceding calendar year. This revision includes updating the CGA DIRT root cause categories and removing data about manual service line shut-off valves and excess flow valves. Each year, gas distribution operators submit approximately 1,446 annual reports to PHMSA. The current estimated burden for operators to submit each report is 17.5 hours for an overall annual reporting burden of 25,305 hours [17.5 hours × 1,446 reports]. Because gas distribution operators are currently collecting and submitting data on excavation damage, PHMSA estimates that these respondents will incur a one-time effort of nine hours, per operator, to update their systems to accommodate the expanded data request. This will result in a one-time burden of 13,014 hours [1,446 reports × 9 hours]. PHMSA expects that it will take gas distribution operators an additional hour, annually, to add the newly expanded excavation damage data to their annual report submission. Therefore, over the course of the three-year approval for the information collection, the average increase to the annual report burden will be 4 hours [(9 hours + 3 hours)/3] each year. As a result, the annual reporting burden will increase from 17.5 hours to 21.5 hours per report. This will result in an estimated annual reporting burden of 31,089 hours [1,446 reports × 21.5 hours].

PHMSA is also revising the burden estimate to account for the elimination of the requirement to report EFV/shut-off valve data. PHMSA currently estimates that it takes gas distribution operators 1.5 hours, per report, to submit the total number of EFVs and shut-off valves installed and maintained in each calendar year. Therefore, the burden hour for this requirement is 2,169 hours [1.5 hours × 1,446 reports). PHMSA is proposing to eliminate this requirement which will result in a 2,169-hour burden reduction. Based on the revisions discussed above, the burden hour estimate for the gas distribution annual report will be 20 hours [17.5 hours (current) + 4 hours (DIRT revisions)—1.5 hours (eliminated EFV/shut-off valve data)] for a total annual burden of 28,920 hours [20 hours × 1,446 reports].

Affected Public: Operators of gas distribution pipeline systems.

Annual Reporting and Recordkeeping Burden:

Estimated number of responses: 1,446.

Estimated annual burden hours: 28,920.

Frequency of Collection: Annually.

5. Title: Incident Reports for Natural Gas Pipeline Operators.

OMB Control Number: 2137-0635.

Current Expiration Date: 5/31/2024.

Type of Request: Revision.

Abstract: This mandatory information collection covers the collection of incident data from operators of gas distribution systems (form PHMSA F 7100.1, “Incident Report—Gas Distribution Systems”), gas transmission and gathering systems (form PHMSA F 7100.2, “Incident Report—Gas Transmission and Gathering Systems”), and liquefied natural gas facilities (PHMSA F 7100.3, “Incident Report—Liquefied Natural Gas (LNG) Facilities,” each under OMB Control No. 2137-0635). Part 191 requires these operators to submit incident reports when certain criteria are met. This revision includes changes to form PHMSA F 7100.1, “Incident Report—Gas Distribution Systems,” to collect more state one-call law exemption data and update the CGA DIRT questions. In the “Incident Report—Gas Transmission and Gathering Systems” form, this revision includes changing the name of the form, collecting more state one-call law exemption data, and updating the CGA DIRT questions. In all three incident reports, this revision includes collecting the local time and date of the event as well as the “confirmed discovery.” PHMSA does not expect operators to incur additional time due to these revisions. PHMSA expects the current time estimated for this information collection to be sufficient for affected operators to include the newly required information.

Affected Public: Gas pipeline operators, operators of underground natural gas, and operators of liquefied natural gas facilities.

Annual Reporting and Recordkeeping Burden:

Estimated Number of Responses: 259.

Estimated Annual Burden Hours: 3,108.

Frequency of Collection: On occasion.

Comments are invited on:

(a) The need for the renewal and revision of this collection of information for the proper performance of the functions of the Agency, including whether the information will have practical utility;

(b) The accuracy of the Agency's estimate of the burden of the proposed collection of information,

(c) Ways to enhance the quality, utility, and clarity of the information to be collected; and

(d) Ways to minimize the burden of the collection of information on those who are required to respond, including the use of appropriate automated, electronic, mechanical, or other technological collection techniques.

Authority: The Paperwork Reduction Act of 1995; 44 U.S.C. chapter 35, as amended; and 49 CFR 1.48.

Issued in Washington, DC, on October 25, 2022, under authority delegated in 49 CFR 1.97.
Alan K. Mayberry,
Associate Administrator for Pipeline Safety.

[FR Doc. 2022-23627 Filed 10-28-22; 8:45 am]

BILLING CODE 4910-60-P